DEPARTMENT OF COMMERCE

International Trade Administration

[A-533-824]

Polyethylene Terephthalate Film, Sheet and Strip From India: Extension of Time Limit for Preliminary Results of Antidumping Duty New Shipper Review

AGENCY: Import Administration, International Trade Administration, Department of Commerce.

DATES: Effective Date: October 25, 2010.

FOR FURTHER INFORMATION CONTACT: Elfi Blum, Import Administration, International Trade Administration, U.S. Department of Commerce, 14th Street and Constitution Avenue, NW., Washington, DC 20230; telephone: (202) 482-0197.

Background

On March 2, 2010, the Department of Commerce (the Department) initiated a new shipper review under the antidumping duty order on polyethylene terephthalate film, sheet and strip from India for the period July 1, 2009 through December 31, 2009. See Polyethylene Terephthalate Film, Sheet and Strip from India: Initiation of Antidumping Duty and Countervailing Duty New Shipper Reviews, 75 FR 10758 (March 9, 2010). This new shipper review covers one producer and exporter of the subject merchandise to the United States: SRF Limited. On August 27, 2010, the Department published a notice of extension for this new shipper review. See Polyethylene Terephthalate Film, Sheet and Strip from India: Extension of Time Limit for Preliminary Results of Antidumping Duty New Shipper Review, 75 FR 52717 (August 27, 2010). The preliminary results of this review are currently due no later than October 22, 2010.

Extension of Time Limit for the Preliminary Results

Section 751(a)(2)(B)(iv) of the Tariff Act of 1930, as amended (the Act), and section 351.214(i)(1) of the Department's regulations require the Department to issue the preliminary results of review within 180 days after the date on which the new shipper review was initiated, and final results of the review within 90 days after the date on which the preliminary results were issued. However, if the Department concludes that a new shipper review is extraordinarily complicated, section 751(a)(2)(B)(iv) of the Act and section 351.214(i)(2) of the Department's regulations allow the Department to extend the 180-day period to 300 days, and to extend the 90-day period to 150 days. The Department determines that this new shipper review involves extraordinarily complicated issues pertaining to the bona fides of the new shipper, including the examination of importer and customer information. The Department also must address certain complicated methodological issues pertaining to SRF Limited's reported sales data. Because of these issues, the Department must issue another supplemental questionnaire to SRF Limited, provide SRF Limited with time to respond, and analyze SRF Limited's response.

Therefore, the Department is extending the deadline for completion of the preliminary results of this new shipper review by an additional total of 55 days, in accordance with section 751(a)(2)(B)(iv) of the Act and 19 CFR 351.214(i)(2). Accordingly, the deadline for the completion of the preliminary results is now no later than December 16, 2010.

This notice is issued and published pursuant to sections 751(a)(2)(B)(iv) and 777(i)(1) of the Act.

Dated: October 18, 2010.
Susan H. Kuhbach,
Acting Deputy Assistant Secretary for Antidumping and Countervailing Duty Operations.

[FR Doc. 2010-26924 Filed 10-22-10; 8:45 am]

BILLING CODE 3510-DS-P